CONSUMER PRODUCT SAFETY COMMISSION

[Docket No. CPSC-2013-0005]

Proposed Extension of Approval of Information Collection; Comment Request—Safety Standard for Walk-Behind Power Lawn Mowers

AGENCY: Consumer Product Safety Commission.

ACTION: Notice.

SUMMARY: As required by the Paperwork Reduction Act (44 U.S.C. Chapter 35), the Consumer Product Safety Commission (CSPC or Commission) requests comments on a proposed request for an extension of approval of a collection of information from manufacturers and importers of walk-behind power lawn mowers. This collection of information consists of testing and recordkeeping requirements in certification regulations implementing the Safety Standard for Walk-Behind Power Lawn Mowers (16 CFR part 1205). The Commission will consider all comments received in response to this notice, before requesting an extension of approval of this collection of information from the Office of Management and Budget (OMB).

DATES: The Office of the Secretary must receive comments not later than December 3, 2012.

ADDRESSES: You may submit comments, identified by Docket No. CPSC-2013-0005, by any of the following methods:

Electronic Submissions

Submit electronic comments in the following way:

Federal eRulemaking Portal: http://www.regulations.gov. Follow the instructions for submitting comments.

To ensure timely processing of comments, the Commission is no longer accepting comments submitted by electronic mail (email), except through www.regulations.gov.

Written Submissions

Submit written submissions in the following way:

Mail/Hand delivery/Courier (for paper, disk, or CD-ROM submissions), preferably in five copies, to: Office of the Secretary, Consumer Product Safety Commission, Room 502, 4330 East-West Highway, Bethesda, MD 20814; telephone (301) 504-7923.

Instructions: All submissions received must include the agency name and docket number for this notice. All comments received may be posted without change, including any personal identifiers, contact information, or other personal information provided, to http://www.regulations.gov. Do not submit confidential business information, trade secret information, or other sensitive or protected information electronically. Such information should be submitted in writing.

Docket: For access to the docket to read background documents or comments received, go to http://www.regulations.gov.

FOR FURTHER INFORMATION CONTACT: For further information contact: Robert H. Squibb, Consumer Product Safety Commission, 4330 East-West Highway, Bethesda, MD 20814; (301) 504-7815, or by email to: rsquibb@cpsc.gov.

SUPPLEMENTARY INFORMATION:

A. Background

In 1979, the Commission issued the Safety Standard for Walk-Behind Power Lawn Mowers (16 CFR Part 1205) under provisions of the Consumer Product Safety Act (CPSA) (15 U.S.C. 2051 et seq.) to eliminate or reduce risks of amputations, avulsions, lacerations, and other serious injuries that have resulted from the accidental contact of some part of an operator's body with the rotating blade of a power lawn mower. The standard contains performance and labeling requirements for walk-behind power lawn mowers to address risks of blade-contact injuries.

Subpart B of the standard sets forth regulations prescribing requirements for a reasonable testing program to support certificates of compliance with the standard for walk-behind power mowers. These regulations also require manufacturers, importers, and private labelers of walk-behind power mowers to establish and maintain records to demonstrate compliance with the requirements for testing to support certification of compliance. 16 CFR Part 1205, Subpart B. Section 14(a) of the CPSA (15 U.S.C. 2063(a)) requires manufacturers, importers, and private labelers of a consumer product subject to a consumer product safety standard to issue a certificate stating that the product complies with all applicable consumer product safety standards. Section 14(a) of the CPSA also requires that the certificate of compliance must be based on a test of each product or upon a reasonable testing program.

Section 14(b) of the CPSA authorizes the Commission to issue regulations to prescribe a reasonable testing program to support certificates of compliance with a consumer product safety standard. Section 16(b) of the CPSA (15 U.S.C 2065(b)) authorizes the Commission to issue rules to require that firms “establish and maintain” records to permit the Commission to determine compliance with rules issued under the authority of the CPSA.

The Commission uses the information compiled and maintained by manufacturers and importers of walk-behind power mowers to protect consumers from risks of injuries associated with walk-behind power lawn mowers. More specifically, the Commission uses this information to determine whether the mowers produced and imported comply with the applicable standard. The Commission also uses this information to obtain corrective actions if walk-behind power mowers fail to comply with the standard in a manner that creates a substantial risk of injury to the public.

The OMB approved the collection of information requirements for walk-behind mowers under control number 3041-0091. OMB's most recent extension of approval will expire on December 31, 2012. The Commission proposes to request an extension of approval for this collection of information requirements.

B. Estimated Burden

Commission staff estimates that about 34 firms are subject to the testing and recordkeeping requirements of the certification regulations. Commission staff estimates further that the annual testing and recordkeeping burden imposed by the regulations on each of these firms on average is approximately 390 hours. Thus, the total annual burden imposed by the certification regulations on all manufacturers and importers of walk-behind power mowers is about 13,260 hours (34 firms × 390 hours).

In addition, manufacturers are expected to spend an additional hour, per production day, to collect the information for labeling. Accordingly, an additional 130 hours per firm is added to the total burden. For the 34 firms involved, the total estimated burden related to labeling is 4,420 hours. Aggregate annual burden hours related to testing, recordkeeping, and labeling are estimated to be 520 hours per firm and 17,680 hours for the industry.

CPSC staff estimates that the hourly wage for the time required to perform the required testing and recordkeeping is approximately $61.75 (Bureau of Labor Statistics: total compensation for management, professional, and related workers in goods-producing private industries: http://www.bls.gov/ncs), and the hourly wage for the time required to maintain the labeling requirements is approximately $27.64 (Bureau of Labor Statistics, total compensation for all sales and office workers in goods-producing, private industries: http://www.bls.gov/ncs). The annualized total cost to the industry for annual testing and recordkeeping is estimated to be $818,805, based on 13,260 hours × $61.75. The annualized cost burden related to labeling is estimated to be $122,169, based on 4,420 hours × $27.64. Aggregate burden costs related to testing, recordkeeping, and labeling are estimated to be $940,972 for the industry.

The annual cost to the federal government of the collection of information in these regulations is estimated to be $6,618 for one-half of one CPSC staff month to review records required to be maintained. This estimate uses an annual total compensation of $119,238 (the equivalent of a GS-14 step 5 employee with an additional 30.7 percent added for benefits.)

C. Request for Comments

The Commission solicits written comments from all interested persons about the proposed collection of information. The Commission specifically solicits information relevant to the following topics:

—Whether the collection of information described above is necessary for the proper performance of the Commission's functions, including whether the information would have practical utility;

—Whether the estimated burden of the proposed collection of information is accurate;

—Whether the quality, utility, and clarity of the information to be collected could be enhanced; and

—Whether the burden imposed by the collection of information could be minimized by use of automated, electronic, or other technological collection techniques, or other forms of information technology.

Dated: October 1, 2012.
Todd A. Stevenson,
Secretary, Consumer Product Safety Commission.

[FR Doc. 2012-24490 Filed 10-3-12; 8:45 am]

BILLING CODE 6355-01-P